DEPARTMENT OF ENERGY

Bonneville Power Administration

Electrical Interconnection of the Vantage to Pomona Heights Transmission Line Project

AGENCY: Bonneville Power Administration (BPA), Department of Energy (DOE).

ACTION: Notice of Availability of Record of Decision (ROD).

SUMMARY: This notice announces the availability of the ROD to interconnect the Vantage to Pomona Heights Transmission Line Project in Grant and Yakima Counties, Washington. BPA has decided to implement its part of the Vantage to Pomona Heights 230-kilovolt (kV) Transmission Line Project (Project) that was analyzed in the Vantage to Pomona Heights 230-kV Transmission Line Project Final Environmental Impact Statement (EIS) (DOI-BLM-OR-134-2013-0002-EIS and DOE/EIS-0505, October 2016). Pacific Power will construct, operate, and maintain the Project, which will be a new 230-kV transmission line that will extend from PacifiCorp's existing Pomona Heights Substation in Yakima County, Washington to BPA's existing Vantage Substation in Grant County, Washington. The U.S. Bureau of Land Management (BLM) was the Lead Federal Agency under the National Environmental Policy Act (NEPA) for preparation of the EIS for the Project. Twelve other public entities, including BPA, were involved in the EIS as cooperating agencies under NEPA. BPA has adopted the Final EIS for the Project.

BPA's action related to the Project is to allow the interconnection of Pacific Power's transmission line to BPA's Vantage Substation. To allow this interconnection, BPA will execute a Line and Load Interconnection agreement with PacifiCorp ¹ to provide interconnection facilities and services for the transmission line. Interconnection will involve connecting Pacific Power's transmission line to an existing substation bay at BPA's Vantage Substation, connecting the transmission line's fiber to the Vantage Substation control house, and installing and operating related electrical, metering, and relay equipment. The interconnection facilities will be located mostly on BPA-owned property within the Vantage Substation fence line.

¹ Pacific Power is a division of PacifiCorp. Pacific Power has proposed the construction of the Vantage to Pomona Heights Transmission Line Project, while PacifiCorp has requested interconnection of the Project to BPA's Vantage Substation.

Pacific Power has recently received approvals from the BLM and the U.S. Bureau of Reclamation (Reclamation) to construct, operate and maintain one of the alternatives—the New Northern Route (NNR) Alternative with an Overhead Design Option—that was considered and analyzed in the Final EIS for the Project. BPA's decision to implement its part of the Project is consistent with those approvals.

All the required design features and mitigation measures for the transmission line described in the Draft EIS, Supplemental Draft EIS, and updated in the Final EIS have been adopted by Pacific Power. Pacific Power will be responsible for executing mitigation measures identified in the EIS.

ADDRESSES: The ROD will be available to all interested parties and affected persons and agencies. Copies of the ROD, Draft EIS, Supplemental Draft EIS, and Final EIS can be accessed at BPA's Project Web site at www.bpa.gov/goto/V2PInterconnection.

FOR FURTHER INFORMATION, CONTACT: Katey Grange, Bonneville Power Administration—ECT-4, P.O. Box 3621, Portland, Oregon 97208-3621; toll-free telephone number 1-800-622-4519; fax number 503-230-5699; or email kcgrange@bpa.gov.

Issued in Portland, Oregon, on October 3, 2017.
Elliot Mainzer,
Administrator and Chief Executive Officer.

[FR Doc. 2017-22046 Filed 10-13-17; 8:45 am]

BILLING CODE 6450-01-P